DEPARTMENT OF TRANSPORTATION

Federal Aviation Administration

Notice of Intent To Rule on Application 04-04-C-00-DUJ To Impose and Use the Revenue From a Passenger Facility Charge (PFC) at Dubois-Jefferson County Airport, Falls Creek, PA

AGENCY: Federal Aviation Administration (FAA), DOT.

ACTION: Notice of intent to rule on application.

SUMMARY: The FAA proposes to rule and invites public comment on the application to impose and use the revenue from a PFC at Dubois-Jefferson County Airport under the provisions of the 49 U.S.C. 40117 and Part 158 of the Federal Aviation Regulations (14 CFR part 158).

DATES: Comments must be received on or before January 8, 2004.

ADDRESSES: Comments on this application may be mailed or delivered in triplicate to the FAA at the following address: Ms. Lori Ledebohm, Community Planner/PFC Contact, Harrisburg Airports District Office, 3905 Hartzdale Drive, Suite 508, Camp Hill, PA 17011.

In addition, one copy of any comments submitted to the FAA must be mailed or delivered to Robert W. Shaffer of Clearfield-Jefferson Counties Regional Airport Authority at the following address: P.O. Box 299, Falls Creek, Pennsylvania 15840.

Air carriers and foreign air carriers may submit copies of written comments previously provided to Clearfield-Jefferson Counties Regional Airport Authority under section 158.23 of part 158.

FOR FURTHER INFORMATION CONTACT: Lori Ledebohm, Community Planner/PFC Contact, Harrisburg Airports District Office, 3905 Hartzdale Drive, Suite 508, Camp Hill, PA 17011, 717-730-2835. The application may be reviewed in person at this same location.

SUPPLEMENTARY INFORMATION: The FAA proposes to rule and invites public comment on the application to impose and use the revenue from a PFC at Dubois-Jefferson County Airport under the provisions of the 49 U.S.C. 40117 and part 158 of the Federal Aviation Regulations (14 CFR part 158).

On November 10, 2003, the FAA determined that the application to impose and use the revenue from a PFC submitted by Clearfield-Jefferson Counties Regional Airport Authority was substantially complete within the requirements of section 158.25 of part 158. The FAA will approve or disapprove the application, in whole or in part, no later than February 7, 2004.

The following is a brief overview of the application.

Proposed charge effective date: April 1, 2004.

Proposed charge expiration date: February 1, 2011.

Level of the proposed PFC: $4.50.

Total estimated PFC revenue: $325,413.

Brief description of proposed project(s):

Impose and Use

Airport Master Plan

Wildlife Hazard Assessment

Runway Safety Areas—Runway 7 End

Electrical Vault

Snow Removal Equipment

High Intensity Runway Lighting

ARFF Building

ARFF Vehicle

Replace Security Card Gates

Expand Terminal Apron

Security Enhancements

Impose Runway 25 Safety Area (Land Acquisition), Phase I

PFC Formulation

Class or classes of air carriers which the public agency has requested not be required to collect PFCs: Non-scheduled on-demand air carriers filing FAA Form 1800-31.

Any person may inspect the application in person at the FAA office listed above under FOR FURTHER INFORMATION CONTACT and at the FAA regional Airports office located at: Eastern Region, Airports Division, AEA-610, 1 Aviation Plaza, Jamaica, New York 11434.

In addition, any person may, upon request, inspect the application, notice and other documents germane to the application in person at Clearfield-Jefferson Counties Regional Airport Authority.

Issued in Camp Hill, PA on November 21, 2003.
Lori Ledebohm,
PFC Contact, Harrisburg Airports District Office, Eastern Region.

[FR Doc. 03-30464 Filed 12-8-03; 8:45 am]

BILLING CODE 4910-13-M